DEPARTMENT OF HOUSING AND URBAN DEVELOPMENT

[Docket No. FR-5831-N-30]

Notice of Emergency Submission of Proposed Information Collection to OMB; Emergency Comment Request Renewable Energy Commitment Form

AGENCY: Office of the Chief Information Officer, HUD.

ACTION: Notice.

SUMMARY: In accordance with the Paperwork Reduction Act of 1995, HUD has requested from the Office of Management and Budget (OMB) emergency approval of the information collection described in this notice.

DATES: Comments Due Date: June 29, 2015.

ADDRESSES: Interested persons are invited to submit comments regarding this proposal. Comments should refer to the proposal by name and/or OMB Control Number and should be sent to: HUD Desk Officer, Office of Management and Budget, New Executive Office Building, Washington, DC 20503; fax: 202-395-5806. Email: OIRA_Submission@omb.eop.gov.

FOR FURTHER INFORMATION CONTACT: Colette Pollard, Reports Management Officer, QDAM, Department of Housing and Urban Development, 451 7th Street SW., Washington, DC 20410; email Colette Pollard at Colette.Pollard@hud.gov or telephone 202-402-3400. Persons with hearing or speech impairments may access this number through TTY by calling the toll-free Federal Relay Service at (800) 877-8339. This is not a toll-free number. Copies of available documents submitted to OMB may be obtained from Ms. Pollard.

SUPPLEMENTARY INFORMATION: This notice informs the public that HUD has submitted to OMB a request for approval of the information collection described in Section A.

A. Overview of Information Collection

Title of Information Collection: Renewable Energy Commitment Form.

OMB Approval Number: 2506-New.

Type of Request: New collection.

Form Number: N/A

Description of the need for the information and proposed use: Currently, there is no vehicle available to allow program partners to make a public commitment toward the Administration's Federal Renewable Energy Target. For owners or managers of federally assisted housing (including Public Housing Authorities) to make a pledge, they must provide the amount of on-site capacity they have already installed or intend to install by 2020. The information collected will make these organizations eligible for technical assistance funds.

Respondents: Organizations (owners or managers of federally assisted housing) contact that make a voluntary public commitment to the Administration's Federal Renewable Energy Target.

Estimated Number of Respondents: 50.

Estimated Number of Responses: 50.

Frequency of Response: Once per year.

Average Hours per Response: 0.5.

Total Estimated Burdens: 25 burden hours.

B. Solicitation of Public Comment

This notice is soliciting comments from members of the public and affected parties concerning the collection of information described in section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. chapter 35.

Dated: June 16, 2015.
Colette Pollard,
Department Reports Management Officer, Office of the Chief Information Officer.

[FR Doc. 2015-15274 Filed 6-19-15; 8:45 am]

BILLING CODE 4210-67-P